DEPARTMENT OF ENERGY

Federal Energy Regulatory Commission

[OA08-33-000, etc.]

Arizona Public Service Company, et al.; Notice of Staff Participation in Meeting of Western Electric Coordinating Council's Transmission Expansion Planning Policy Committee

August 26, 2008.

Arizona Public Service Company | OA08-33-000
Avista Corporation | OA08-25-000
Black Hills Power, Inc | OA08-43-000
| OA08-99-000
| OA08-99-001
Deseret Generation & Transmission Co-operative Inc | OA08-28-000
| OA08-54-000
| OA08-54-001
| OA08-54-002
El Paso Electric Co | OA08-30-000
Idaho Power Company | OA08-23-000
| OA08-55-000
| OA08-55-001
| OA08-55-002
NorthWestern Corporation | OA08-31-000
| OA08-31-001
| OA08-56-000
| OA08-56-001
| OA08-56-002
PacifiCorp | OA08-40-000
| OA08-57-000
| OA08-57-001
| OA08-57-002
Portland General Electric, Inc | OA08-45-000
| OA08-45-001
| OA08-118-000
Public Service Company of New Mexico | OA08-34-000
Puget Sound Energy, Inc | OA08-26-000
Sierra Pacific Resources Operating Companies | OA08-38-000
Tucson Electric Power Company | OA08-47-000
Xcel Energy Services, Inc.—Public Service Company of Colorado | OA08-35-000
United States Department of Energy—Bonneville Power Administration | NJ08-5-000
UNS Electric, Inc | OA08-48-000

Notice of Staff Participation in Meeting of Western Electric Coordinating Council's Transmission Expansion Planning Policy Committee

The Federal Energy Regulatory Commission (Commission) hereby gives notice that on September 9, 2008, members of its staff will participate in person or via conference call in a coordination meeting of the Sub-Regional Planning Group of the Western Electric Coordinating Council's Transmission Expansion Planning Policy Committee (TEPPC). The meeting may discuss matters at issue in the above-referenced dockets. Staff's participation in this meeting is part of the Commission's ongoing outreach efforts regarding compliance with the planning-related requirements of Order No. 890.¹

¹ Preventing Undue Discrimination and Preference in Transmission Service, Order No. 890, 72 FR 12,266 (March 15, 2007), FERC Stats. & Regs. ¶ 31,241, order on reh'g, Order No. 890-A, 73 FR 2984 (January 16, 2008), FERC Stats. & Regs. ¶ 31,261 (2007), order on reh'g, Order No. 890-B, 73 FR 39,092 (July 8, 2008).

Sponsored by the TEPPC Sub-Regional Planning Group, the meeting will be held from 9 a.m. to 1 p.m. (PST) at the Marriott University Park Hotel, 480 Wakara Way, Salt Lake City, UT 84108. The meeting is open to all stakeholders, who may attend in person or via teleconference and Web conference, as follows:

To attend via teleconference, dial (503) 813-5600 or (800) 503-3360 and use Meeting ID 987654 and password 123456.

To attend via Web conference, navigate to https://meetusat.pacificorp.com, enter Meeting ID 987654, click attend meeting and follow instructions.

For more information about Commission staff's participation in this meeting, please contact Mason Emnett at mason.emnett@ferc.gov or (202) 502-6540.

Kimberly D. Bose,
Secretary.

[FR Doc. E8-20261 Filed 9-2-08; 8:45 am]

BILLING CODE 6717-01-P